DEPARTMENT OF COMMERCE

National Oceanic and Atmospheric Administration

RIN 0648-XD036

Marine Mammals; File No. 16591

AGENCY: National Marine Fisheries Service (NMFS), National Oceanic and Atmospheric Administration (NOAA), Commerce.

ACTION: Notice; receipt of application.

SUMMARY: Notice is hereby given that Darlene Ketten, Ph.D., Woods Hole Oceanographic Institution, 266 Woods Hole Road, Woods Hole, MA 02543, has applied in due form for a permit to collect, receive, import, and export marine mammal parts for scientific research purposes.

DATES: Written, telefaxed, or email comments must be received on or before February 18, 2014.

ADDRESSES: The application and related documents are available for review by selecting “Records Open for Public Comment” from the Features box on the Applications and Permits for Protected Species (APPS) home page, https://apps.nmfs.noaa.gov, and then selecting File No. 16591 from the list of available applications.

These documents are also available upon written request or by appointment in the following offices:

Permits and Conservation Division, Office of Protected Resources, NMFS, 1315 East-West Highway, Room 13705, Silver Spring, MD 20910; phone (301) 427-8401; fax (301) 713-0376; and

Northeast Region, NMFS, 55 Great Republic Drive, Gloucester, MA 01930; phone (978) 281-9328; fax (978) 281-9394.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Sloan or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

Dr. Ketten is requesting a permit for the collection, receipt, and world-wide import/export of marine mammal and endangered species parts annually from up to 20 animals of each species from the orders of Cetacea (dolphins, porpoises and whales) and Pinnipedia (seals and sea lions, excluding walrus). Whole carcasses, heads, or temporal bones (ears) are requested from stranded animals in foreign countries that die prior to beaching or are euthanized upon stranding; animals that die in captivity in the U.S. and abroad; animals killed in legal subsistence hunts; and animals killed incidental to legal fisheries operations. No live animals would be taken or killed for the purpose of this research. Marine mammal ears will be studied using various methods including biomedical imaging and dissection and histology; computer modelling is used to estimate hearing abilities, calculate frequency distribution maps, determine how marine mammal ears withstand pressure changes, and understand how underwater noise affects hearing. The requested duration of the permit is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 13, 2014.
Tammy C. Adams,
Acting Chief, Permits and Conservation Division, Office of Protected Resources, National Marine Fisheries Service.

[FR Doc. 2014-00913 Filed 1-16-14; 8:45 am]

BILLING CODE 3510-22-P